DEPARTMENT OF DEFENSE

Office of the Secretary

Judicial Proceedings Since Fiscal Year 2012 Amendments Panel (Judicial Proceedings Panel); Notice of Federal Advisory Committee Meeting

AGENCY: Department of Defense.

ACTION: Notice of meeting.

SUMMARY: The Department of Defense is publishing this notice to announce the following Federal Advisory Committee meeting of the Judicial Proceedings since Fiscal Year 2012 Amendments Panel (“the Judicial Proceedings Panel” or “the Panel”). The meeting is open to the public.

DATES: A meeting of the Judicial Proceedings Panel will be held on Friday, May 13, 2016. The public session will begin at 9:00 a.m. and end at 4:15 p.m.

ADDRESSES: The Judge Advocate General's Legal Center and School, 600 Massie Rd., Charlottesville, VA 22903.

FOR FURTHER INFORMATION CONTACT: Ms. Julie Carson, Judicial Proceedings Panel, One Liberty Center, 875 N. Randolph Street, Suite 150, Arlington, VA 22203. Email: whs.pentagon.em.mbx.judicial-panel@mail.mil Phone: (703) 693-3849. Web site: http://jpp.whs.mil.

SUPPLEMENTARY INFORMATION: This public meeting is being held under the provisions of the Federal Advisory Committee Act of 1972 (5 U.S.C., Appendix, as amended), the Government in the Sunshine Act of 1976 (5 U.S.C. 552b, as amended), and 41 CFR 102-3.150.

Purpose of the Meeting: In Section 576(a)(2) of the National Defense Authorization Act for Fiscal Year 2013 (Pub. L. 112-239), as amended, Congress tasked the Judicial Proceedings Panel to conduct an independent review and assessment of judicial proceedings conducted under the Uniform Code of Military Justice (UCMJ) involving adult sexual assault and related offenses since the amendments made to the UCMJ by section 541 of the National Defense Authorization Act for Fiscal Year 2012 (Public Law 112-81; 125 Stat. 1404), for the purpose of developing recommendations for improvements to such proceedings. At this meeting, the Panel will review training and experience for military attorneys involved in the adjudication of sexual assault offenses. The Panel is interested in written and oral comments from the public, including non-governmental organizations, relevant to these issues or any of the Panel's tasks.

Agenda

—8:30 a.m.-9:00 a.m. Administrative Work (41 CFR 102-3.160, not subject to notice & open meeting requirements)

—9:00 a.m.-10:30 a.m. Overview on Judge Advocate Military Justice Training (Public meeting begins)—Speakers: Leaders from the Services' schools for judge advocate training

—10:30 a.m.-12:00 p.m. Overview on Training and Experience of Attorneys Prosecuting Adult Sexual Assault Cases—Speakers: Service experts on trial counsel training

—12:00 p.m.-1:00 p.m. Lunch and Tour of the Army JAG School

—1:00 p.m.-2:30 p.m. Overview on Training and Experience of Attorneys Defending Adult Sexual Assault Cases—Speakers: Service experts on defense counsel training

—2:30 p.m.-4:00 p.m. Overview of Training and Experience of Special Victims' Counsel—Speakers: Service experts on victim counsel training

—4:00 p.m.-4:15 p.m. Public Comment

Availability of Materials for the Meeting: A copy of the May 13, 2016 public meeting agenda or any updates or changes to the agenda, to include individual speakers not identified at the time of this notice, as well as other materials provided to Panel members for use at the public meeting, may be obtained at the meeting or from the Panel's Web site at http://jpp.whs.mil. In the event the Office of Personnel Management closed the government due to inclement weather or any other reason, please consult the Web site for any changes in the public meeting date or time.

Public's Accessibility to the Meeting: Pursuant to 5 U.S.C. 552b and 41 CFR 102-3.140 through 102-3.165, and the availability of space, this meeting is open to the public. Parking is available at the Legal Center and School. To park, attendees must present a government-issued photo identification card to the Legal Center and School security guard, who will direct you to the parking lot designated for the event. To enter the building, attendees must present a government-issued photo identification card to the security guard, register with staff, and wear a visitor badge while in the building. Staff will direct attendees to the location of the meeting. Seating is limited and is on a first-come basis.

Special Accommodations: Individuals requiring special accommodations to access the public meeting should contact the Judicial Proceedings Panel at whs.pentagon.em.mbx.judicial-panel@mail.mil at least five (5) business days prior to the meeting so that appropriate arrangements can be made.

Procedures for Providing Public Comments: Pursuant to 41 CFR 102-3.140 and section 10(a)(3) of the Federal Advisory Committee Act of 1972, the public or interested organizations may submit written comments to the Panel about its mission and topics pertaining to this public session. Written comments must be received by the JPP at least five (5) business days prior to the meeting date so that they may be made available to the Judicial Proceedings Panel for their consideration prior to the meeting. Written comments should be submitted via email to the Judicial Proceedings Panel at whs.pentagon.em.mbx.judicial-panel@mail.mil in the following formats: Adobe Acrobat or Microsoft Word. Please note that since the Judicial Proceedings Panel operates under the provisions of the Federal Advisory Committee Act, as amended, all written comments will be treated as public documents and will be made available for public inspection. If members of the public are interested in making an oral statement, a written statement must be submitted as above along with a request to provide an oral statement. After reviewing the written comments, the Chairperson and the Designated Federal Officer will determine who of the requesting persons will be able to make an oral presentation of their issue during the open portion of this meeting. Determination of who will be making an oral presentation is at the sole discretion of the Committee Chair and the Designated Federal Officer and will depend on time available and relevance to the Panel's activities, and on a first-come basis. Oral presentations by members of the public will be permitted from 4:00 p.m. to 4:15 p.m. on May 13, 2016 in front of the Panel members.

Committee's Designated Federal Officer: The Panel's Designated Federal Officer is Ms. Maria Fried, Department of Defense, Office of the General Counsel, 1600 Defense Pentagon, Room 3B747, Washington, DC 20301-1600.

Dated: April 21, 2016.
Aaron Siegel,
Alternate OSD Federal Register Liaison Officer, Department of Defense.

[FR Doc. 2016-09671 Filed 4-25-16; 8:45 am]

BILLING CODE 5001-06-P